DEPARTMENT OF COMMERCE

Foreign-Trade Zones Board

[S-209-2020]

Approval of Subzone Status: JJS Transportation and Distribution Co., Inc., Valley Stream, New York

On November 25, 2020, the Executive Secretary of the Foreign-Trade Zones (FTZ) Board docketed an application submitted by the County of Orange, grantee of FTZ 37, requesting subzone status subject to the existing activation limit of FTZ 37, on behalf of JJS Transportation and Distribution Co Inc, in Valley Stream, New York.

The application was processed in accordance with the FTZ Act and Regulations, including notice in the Federal Register inviting public comment (85 FR 78306, December 4, 2020). The FTZ staff examiner reviewed the application and determined that it meets the criteria for approval. Pursuant to the authority delegated to the FTZ Board Executive Secretary (15 CFR 400.36(f)), the application to establish Subzone 37F was approved on January 22, 2021, subject to the FTZ Act and the Board's regulations, including Section 400.13, and further subject to FTZ 37's 2,000-acre activation limit.

Dated: January 22, 2021.
Andrew McGilvray,
Executive Secretary.

[FR Doc. 2021-01908 Filed 1-27-21; 8:45 am]

BILLING CODE 3510-DS-P